NATIONAL AERONAUTICS AND SPACE ADMINISTRATION

[Notice (05-100)]

Government-Owned Inventions, Available for Licensing

AGENCY: National Aeronautics and Space Administration.

ACTION: Notice of availability of inventions for licensing.

SUMMARY: The inventions listed below assigned to the National Aeronautics and Space Administration, have been filed in the United States Patent and Trademark office, and are available for licensing.

DATES: June 8, 2005.

FOR FURTHER INFORMATION CONTACT: David Walker, Patent Counsel, Goddard Space Flight Center, Mail Code 503, Greenbelt, MD 20771-0001; telephone (301) 286-7351; fax (301) 286-9502.

NASA Case No. GSC-14790-1: Phase-Oriented Gears;

NASA Case No. GSC-14757-1: Systems And Methods For Fabricating Thin Films.

Dated: May 31, 2005.
Keith T. Sefton,
Deputy General Counsel, Administration and Management.

[FR Doc. 05-11303 Filed 6-7-05; 8:45 am]

BILLING CODE 7510-13-P